DEPARTMENT OF STATE

[Public Notice: 10809]

In the Matter of the Review and Amendment of the Designation of Jundallah (and Other Aliases) as a Foreign Terrorist Organization Pursuant to Section 219 of the Immigration and National Act, as Amended

Based on a review of the Administrative Record assembled pursuant to Section 219 of the Immigration and National Act, as amended (8 U.S.C. 1189) (“INA”), and in consultation with the Attorney General and the Secretary of the Treasury, I conclude that the circumstances that were the basis for the designation of the aforementioned organization (and other aliases) as a Foreign Terrorist Organization have not changed in such a manner as to warrant revocation of the designation and that the national security of the United States does not warrant a revocation of the designation. I also conclude there is a sufficient factual basis to find that the aforementioned organization (and other aliases) uses the additional alias Jaysh al-Adl, also known as Jeysh al-adl, also known as Army of Justice, also known as Jaish ul-Adl, also known as Jaish al-Adl, also known as Jaish Aladl, also known as Jeish al-Adl, as its primary name.

Therefore, I hereby determine that the designation of the aforementioned organization (and other aliases) as a Foreign Terrorist Organization, pursuant to Section 219 of the INA, as amended (8 U.S.C. 1189), shall be maintained. Additionally, pursuant to Section 219(b) of the INA, as amended (8 U.S.C. 1189(b)), I hereby amend the designation of the aforementioned organization as a Foreign Terrorist Organization to include the following new aliases: Jaysh al-Adl, Jeysh al-adl, Army of Justice, Jaish ul-Adl, Jaish al-Adl, Jaish Aladl, Jeish al-Adl, This notice shall be published in the Federal Register.

Dated: February 12, 2019.
Michael R. Pompeo,
Secretary of State.

Editorial note: This document was received for publication by the Office of the Federal Register on June 27, 2019.

[FR Doc. 2019-14115 Filed 7-1-19; 8:45 am]

BILLING CODE 4710-AD-P